DEPARTMENT OF LABOR

Employment and Training Administration

[TA-W-72,415]

Ohio American Energy, Inc.: Brilliant, OH; Notice of Termination of Investigation

Pursuant to Section 223 of the Trade Act of 1974, as amended, an investigation was initiated in response to a petition filed on September 25, 2009 by a company official on behalf of workers of Ohio American Energy, Inc., Brilliant, Ohio.

The petitioner has requested that the petition be withdrawn. Consequently, the investigation has been terminated.

Signed at Washington, DC this 26th day of February, 2010.
Michael W. Jaffe,
Certifying Officer, Division of Trade Adjustment Assistance.

[FR Doc. 2010-6925 Filed 3-29-10; 8:45 am]

BILLING CODE 4510-FN-P